DEPARTMENT OF HEALTH AND HUMAN SERVICES

Food and Drug Administration

21 CFR Part 172

[Docket No. 1987F-0179]

Food Additives Permitted for Direct Addition to Food for Human Consumption; Olestra; Correction

AGENCY: Food and Drug Administration, HHS.

ACTION: Final rule; correction.

SUMMARY: The Food and Drug Administration (FDA) is correcting a final rule that appeared in the Federal Register of August 5, 2003 (68 FR 46403). The document denied the requests for a hearing and response to objections it has received on the final rule that amended the food additive regulations to provide for the safe use of sucrose esterified with medium and long chain fatty acids (olestra) as a replacement for fats and oils in savory snacks. The document was published with inadvertent errors. This document corrects those errors.

FOR FURTHER INFORMATION CONTACT: Mary Ditto, Center for Food Safety and Applied Nutrition (HFS-255), Food and Drug Administration, 5100 Paint Branch Pkwy., College Park, MD 20740, 202-418-3102.

SUPPLEMENTARY INFORMATION: In FR Doc. 03-19509, appearing on page 46403 in the Federal Register of Tuesday, August 5, 2003, the following corrections are made:

1. On page 46408, in the second column, under the heading “D. Adequacy of Olestra's Label Statement ³³” the first sentence is corrected to read “In its fifth objection and request for a hearing, CSPI challenges the label statement required by the 1996 final rule, claiming that it is not sufficient to protect the public from adverse effects associated with consumption of olestra.”

2. On page 46408, in the third column, under the heading “E. Alleged Procedural Problems in the Olestra Proceeding” the first sentence is corrected to read “In its sixth objection and hearing request, CSPI claims that there were a number of problems with the procedures utilized by FDA to reach a decision about the safety of olestra.”

3. On page 46408, in the third column, under heading “E. Alleged Procedural Problems in the Olestra Proceeding” the second to the last sentence on that page is corrected to read “As in the case with its fifth objection and hearing request, CSPI specifically identifies no factual issue underlying any of its six procedural complaints.”

Dated: September 30, 2003.
Jeffrey Shuren,
Assistant Commissioner for Policy.

[FR Doc. 03-25198 Filed 10-6-03; 8:45 am]

BILLING CODE 4160-01-S